DEPARTMENT OF DEFENSE

Department of the Navy

Notice of Intent To Grant Exclusive Patent License; Soilworks, L.L.C.

AGENCY: Department of the Navy, DoD.

ACTION: Notice.

SUMMARY: The Department of the Navy hereby gives notice of its intent to grant to Soilworks, L.L.C. a revocable, nonassignable, exclusive license to practice in the fields of dust control on and around helipads and commercial construction sites in the United States and certain foreign countries, the Government-owned invention described in U.S. Patent Application Serial No. 10/778,707, entitled “Formulation for Dust Abatement and Prevention of Erosion”, Navy Case No. 84,722.

DATES: Anyone wishing to object to the grant of this license must file written objections along with supporting evidence, if any, not later than September 7, 2004.

ADDRESSES: Written objections are to be filed with the Naval Research Laboratory, Code 1004, 4555 Overlook Avenue, SW., Washington, DC 20375-5320.

FOR FURTHER INFORMATION CONTACT: Ms. Jane F. Kuhl, Head, Technology Transfer Office, NRL Code 1004, 4555 Overlook Avenue, SW., Washington, DC 20375-5320, telephone (202) 767-3083. Due to U.S. Postal delays, please fax (202) 404-7920, E-Mail: kuhl@utopia.nrl.navy.mil or use courier delivery to expedite response.

(Authority: 35 U.S.C. 207, 37 CFR Part 404.)

Dated: August 16, 2004.
S.K. Melancon,
Paralegal Specialist, Office of the Judge Advocate General, Alternate Federal Register Liaison Officer.

[FR Doc. 04-19107 Filed 8-19-04; 8:45 am]

BILLING CODE 3810-FF-P